DEPARTMENT OF DEFENSE

Defense Acquisition Regulations System

[Docket Number DARS-2016-0039; OMB Control Number 0704-0229]

Submission for OMB Review; Comment Request

ACTION: Notice.

SUMMARY: The Defense Acquisition Regulations System has submitted to OMB for clearance, the following proposal for collection of information under the provisions of the Paperwork Reduction Act.

DATES: Consideration will be given to all comments received by April 26, 2017.

SUPPLEMENTARY INFORMATION:

Title, Associated Form, and OMB Number: Defense Federal Acquisition Regulation Supplement Part 225, Foreign Acquisition, and Related Clauses at 252.225; DD Form 2139; OMB Control Number 0704-0229.

Number of Respondents: 26,669.

Responses per Respondent: 10 (approximately).

Annual Responses: 263,863.

Average Burden per Response: .29 hours.

Annual Burden Hours: 77,209 (76,944 reporting hours and 265 recordkeeping hours).

Reporting Frequency: On occasion.

Needs and Uses: This information collection includes requirements related to foreign acquisition in DFARS Part 225, Foreign Acquisition, and the related clause at DFARS 252.225.

DFARS 252.225-7000, Buy American Act—Balance of Payments Program Certificate, as prescribed in 225.1101(1), requires an offeror to identify, in its proposal, supplies that are not domestic end products, separately listing qualifying country and other foreign end products.

DFARS 252.225-7003, Report of Intended Performance Outside the United States and Canada—Submission with Offer, and 252.225-7004, Report of Intended Performance Outside the United States and Canada—Submission after Award, as prescribed in 225.7204(a) and (b) respectively, require offerors and contractors to submit a Report of Contract Performance Outside the United States for subcontracts to be performed outside the United States. The reporting threshold is $700,000 for contracts that exceed $13.5 million. The contractor may submit the report on DD Form 2139, Report of Contract Performance Outside the United States, or a computer-generated report that contains all information required by DD Form 2139.

DFARS 252.225-7005, Identification of Expenditures in the United States, as prescribed in 225.1103(1), requires contractors incorporated or located in the United States to identify, on each request for payment under contracts for supplies to be used, or for construction or services to be performed, outside the United States, that part of the requested payment representing estimated expenditures in the United States.

DFARS 252.225-7010, Commercial Derivative Military Article—Specialty Metals Compliance Certificate, as prescribed at 225.7003-5(b), requires the offeror to certify that it will take certain actions with regard to specialty metals if the offeror chooses to use the alternative compliance approach when providing commercial derivative military articles to the Government.

DFARS 252.225-7013, Duty-Free Entry, as prescribed in 225.1101(4), requires the contractor to provide information on shipping documents and customs forms regarding products that are eligible for duty-free entry.

DFARS 252.225-7018, Photovoltaic Devices—Certificate, as prescribed at 225.7017-4(b), requires offerors to certify that no photovoltaic devices with an estimated value exceeding $3,000 will be utilized in performance of the contract or to specify the country of origin.

DFARS 252.225-7020, Trade Agreements Certificate, as prescribed in 225.1101(5), requires an offeror to list the item number and country of origin of any nondesignated country end product that it intends to furnish under the contract. Either 252.225-7020 or 252.225-7022 is used in any solicitation for products subject to the World Trade Organization Government Procurement Agreement.

DFARS 252.225-7021, Alternate II, Trade Agreements, as prescribed in 225.1101(6)(ii), in order to comply with a condition of the waiver authority provided by the United States Trade Representative to the Secretary of Defense, requires contractors from a south Caucasus/central or south Asian state to inform the government of its participation in the acquisition and also advise their governments that they generally will not have such opportunities in the future unless their governments provide reciprocal procurement opportunities to U.S. products and services and suppliers of such products and services.

DFARS 252.225-7023, Preference for Products or Services from Afghanistan, as prescribed in 225.7703-5(a), requires an offeror to identify, in its proposal, products or services that are not products or services from Iraq or Afghanistan.

DFARS 252.225-7025, Restriction on Acquisition of Forgings, as prescribed in 225.7102-4, requires the contractor to retain records showing compliance with the requirement that end items and their components delivered under the contract contain forging items that are of domestic manufacture only. The contractor must retain the records for 3 years after final payment and must make the records available upon request of the contracting officer. The contractor may request a waiver of this requirement in accordance with DFARS 225.7102-3.

DFARS 252.225-7032, Waiver of United Kingdom Levies—Evaluation of Offers, and 252.225-7033, Waiver of United Kingdom Levies, as prescribed in 225.1101(7) and (8), require an offeror to provide information to the contracting officer regarding any United Kingdom levies included in the offered price, and require the contractor to provide information to the contracting officer regarding any United Kingdom levies to be included in a subcontract that exceeds $1 million, before award of the subcontract.

DFARS 252.225-7035, Buy American Act—North American Free Trade Agreement Implementation Act—Balance of Payments Program Certificate, as prescribed in 225.1101(9), requires an offeror to list any qualifying country, NAFTA country, or other foreign end product that it intends to furnish under the contract. The Buy American Act no longer applies to acquisitions of commercial information technology.

DFARS 252.225-7046, Exports of Approved Community Members in Response to the Solicitation, requires a representation whether exports or transfers of qualifying defense articles were made in preparing the response to the solicitation. If yes, the offeror represents that such exports or transfers complied with the requirements of the provision.

Affected Public: Businesses or other for-profit and not-for profit institutions.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Clearance Officer: Mr. Frederick C. Licari.

Written requests for copies of the information collection proposal should be sent to Mr. Licari at: Information Collections Program, WHS/ESD Office of Information Management, 4800 Mark Center Drive, 3rd Floor, East Tower, Suite 03F09, Alexandria, VA 22350-3100.

Jennifer L. Hawes,
Editor, Defense Acquisition Regulations System.

[FR Doc. 2017-05995 Filed 3-24-17; 8:45 am]

BILLING CODE 5001-06-P